DEPARTMENT OF HEALTH AND HUMAN SERVICES

Health Resources and Services Administration

Rural Health Outreach and Rural Health Network Development Program

AGENCY: Health Resources and Services Administration (HRSA).

ACTION: Notice of availability of funds.

SUMMARY: The Office of Rural Health Policy (ORHP) announces that fiscal year 2002 funds may be available for grants under the Rural Health Outreach and Network Development Program.

Two kinds of projects will be funded under this announcement: (1) Rural Health Outreach Grants for the development of networks to expand service delivery systems in rural areas where support is provided for the actual delivery of new services or enhancement of existing services.

(2) Rural Health Network Development Grants for the planning and development of vertically integrated networks in rural areas where the emphasis is placed not on the actual delivery of services, but on efforts to restructure the delivery system in rural communities. Funds are appropriated for these grants under Public Law 104-208. The grants are authorized by section 330A of the Public Health Service Act as amended by the Health Centers Consolidation Act of 1996, Public Law 104-299.

Applicants and Network members may not apply for both the Rural Health Outreach Grant Program and the Rural Health Network Development Grant Program. Except for current and former one-year Network grantees, current and former grantees cannot reapply for either grant program for FY 2002 funding.

National Health Objectives for the Year 2010: The Health Resources & Services Administration (HRSA) is committed to achieving the health promotion and disease prevention objectives of Healthy People 2010, a Public Health Service (PHS) national activity for setting priority areas. The Rural Health Outreach program is related to the priority areas for health promotion, health protection and preventive services. Potential applicants may receive a copy of Healthy People 2010 (Stock No. 017-001-00547-9) through the Superintendent of Documents, Government Printing Office, Washington, DC 20402-9325 (Telephone (202) 783-3238). The cost for the full document in hard copy is $70.

The document can also be read online in several different formats such as: HTML, Microsoft Word, Adobe Acrobat Reader Portal Document File or Rich Text Format. The document file can be found on the Internet at: http://www.health.gov/healthypeople/Document/tableofcontents.htm.

Amount and Duration of Grant Awards: Grant awards under this notice will be limited to a total amount of $200,000 (direct and indirect costs) per grantee, per year.

Applications for smaller amounts are encouraged. Applicants may propose project periods for up to three years, but the duration of projects is contingent upon the availability of funds. It is expected that the average grant award will be approximately $180,000 for the first year. Award date for grants will be May 1, 2002. However, applicants are advised that continued funding of grants beyond the one-year period covered by this announcement is contingent upon the appropriation of funds for the program and assessment of grantee performance. No project will be supported for more than three years.

Application Deadlines: Applications for the programs must be received by the close of business on September 28, 2001 for the Rural Health Outreach Program and October 5, 2001 for the Rural Health Network Development Program. Completed applications must be sent to The HRSA Grants Application Center (GAC), 1815 North Fort Myers Drive, Suite 300, Arlington, VA 22209.

Applications shall be considered as meeting the deadline if they are either (1) received on or before the deadline date; or (2) postmarked on or before the deadline date and received in time for orderly processing. Applicants must obtain a legibly dated receipt from a commercial carrier or the U.S. Postal Service in lieu of a postmark. Private metered postmarks are not acceptable as proof of timely mailing. Late applications will not be reviewed.

The standard application form and general instructions for completing applications (Form PHS-5161-1, Revised 7/00) have been approved by the Office of Management and Budget. To receive an application kit, contact The HRSA GAC, toll-free at, 1-877/477-2123 or write them at 1815 North Fort Myers Drive, and Suite 300, Arlington, VA 22209. To order an application kit for either program, you must identify the program citing the following program names and CFDA numbers: Rural Health Outreach Program, 93.912A; Rural Health Network Development Program, 93.912B. If you are unable to connect to one of these toll-free numbers please call Lilly Smetana, 301/443-6884, in the Office of Rural Health Policy.

FOR FURTHER INFORMATION CONTACT: Information or technical assistance regarding business, budget, or financial issues should be directed to the Office of Grants Management, Bureau of Primary Health Care, Health Resources and Services Administration, 4350 East West Highway, 11th Floor, Bethesda, Maryland 20814, 301/594-4260 as follows:

Staff | Phone | States
Cheryl Armstead | 301-594-4261 | AK, ID, NH, OR, WA.
Inge Cooper | 301-594-4236 | CT, KS, WV.
Kathy Cummings | 301-594-0823 | DE, PA.
Mary Douglas | 301-594-4232 | FL, KY, NV, NE, Virgin Islands.
Donna Marx | 301-594-4245 | IA, MN, MO, WI.
Joyce Monk | 301-594-4252 | NY, Puerto Rico, VT.
Cathy Neher | 301-594-4268 | MA, ME, NJ.
Carol Odum | 301-594-4254 | CA.
Tonya Randall | 301-594-4259 | AZ, DC, OH, TN, RI.
Joyce Sagami | 301-594-4253 | AR, LA, OK, TX.
Angela Stokes | 301-594-4257 | MD, NM, VA.
Martha Teague | 301-594-4258 | AL, NC, SC.
Carolyn Testerman | 301-594-4244 | IL, MI, IN, Pacific Islands.
Kim Whitfield | 301-594-4255 | CO, MT, ND, SD, UT, WY.
Anifa Williams | 301-594-5242 | HI, MS.
Stephanie Young | 301-594-1246 | GA.

Requests for technical or programmatic information on this announcement should be directed to Lilly Smetana of the Office of Rural Health Policy, Room 9A-55, Parklawn Building, 5600 Fishers Lane, Rockville, MD 20857, (301) 443-0835.

SUPPLEMENTARY INFORMATION: The two categories of grants offered under this program are the Rural Health Outreach Grants and Rural Health Network Development Grants. These programs have the common purposes “* * *to coordinate, restrain the cost of, and improve the quality of essential health care services, including preventive and emergency services, through the development of integrated health care delivery systems or networks in rural areas and regions.” The two types of grants available through this announcement are different approaches to achieve the same goals.

Rural Health Outreach Grants

These grants will support the development of health service delivery systems in rural areas that lack basic services. Grants will be awarded to support the actual delivery of new services through networks comprised of at least three separately owned organizations. They may also be awarded to support activities that will expand access to or increase utilization of existing services. Programs in health prevention, health education, quality improvement, emergency care and other services may be supported through the program. Applicants may propose projects to address the needs of a wide range of rural population groups including the poor, the elderly, adolescents, rural minority populations, pregnant women and children, populations with special health care needs, etc. Projects should be responsive to the special cultural and linguistic needs of specific populations. The grants may not be used to support planning activities.

A central goal of the Rural Outreach Grants is to better coordinate services through the development of new service delivery systems. In furtherance of this goal, participation in the program requires the formation of a service delivery network of three or more health care organizations, or a combination of three or more health care and social service organizations. At least one of the entities must be a health care service delivery organization. Individual members of the Rural Outreach Grant network might include such entities as physicians, hospitals, public health agencies, emergency care providers, mental health centers, Faith-based services, Rural Health Clinics, social service agencies, health professions schools, other educational institutions, community and migrant health centers, civic organizations, dental providers, etc. There must be a memorandum of agreement or other arrangements to ensure effective collaboration among members of the service delivery network. Although applicants for the program must be nonprofit or public entities, other network members may be for-profit organizations.

The roles and responsibilities of each member of a Rural Outreach Grant network must be clearly defined and each must contribute significantly to the goals of the project. The local community must be involved in the project and committed to the goals of the network.

Applicants are encouraged to develop projects to address specific areas of need in their communities. Need should be established through a formal needs assessments, comparison of local data against State and national information and/or by population specific demographic data.

The following are examples of project areas that can be supported through this program:

(1) Projects that bring ambulatory and mental health care to unserved or underserved rural areas or populations. The HRSA has a special priority to establish primary care programs along the U.S./Mexican border.

(2) Projects that provide, or make possible the provision, of emergency medical services within rural areas that lack these services.

(3) The creation of new integrated networks of providers to deliver ambulatory care when such networks appear likely to improve access to health care or its quality.

(4) Projects that provide services that enable rural populations to better utilize existing health services, including those involving the use of community outreach workers.

(5) Projects that provide training for health care professionals and workers, including community outreach workers, when such training may be demonstrated to be likely to lead to higher quality services or more accessible services in rural areas.

(6) Projects that enhance the health and safety of farmers, farm families, and migrant and seasonal farm workers through direct services.

(7) Projects that address the needs of rural minority populations.

(8) Projects that train rural people in disease prevention and health promotion, when such training addresses critical needs of the area.

(9) Projects on adolescent health and on school-based programs.

(10) Projects from Faith based organizations that provide health services to members of the community.

The focus areas listed above are examples only. All projects must address the demonstrated needs of the community.

Review Considerations

Applications for the Rural Health Outreach Grant Program will be evaluated on the basis of the following criteria:

Criterion and Maximum Points

(1) Need for the Project and the Network (25 Points)

A. Description of Need (15 points)

1. Unmet Health Needs of the Target Population

2. Access Barriers to Needed Services

3. Description and Map of the Service Area

4. Relevant Services Available in or Near the Service Area

B. Description of Network Capability (10 Points)

1. Applicant Management Information

2. Management Review Form

3. Identification and Credentials of Network Members

4. History of Network Development and Collaborative Activities

5. Letters of Commitment from Network Members

(2) Description of the Program to Meet the Needs (25 Points)

A. Description of the Planning Process (10 Points)

1. Role of the Network in Planning

2. Role of the Community in Planning

3. Models that Work

B. Project Plan (15 Points)

1. Goals, Strategies, Activities, Responsible Agents and Completion Milestones

(3) Project Management and Network and Community Involvement (25 Points)

A. Responsibilities of the Applicant and Network Members(10 Points)

1. Plans for Network Governance

2. Plans for Network Communication and Coordination

3. Description and Chart of Organization and Lines of Authority

B. Community Support and Involvement in Project (10 Points)

1. Financial (including documentation)

2. In-Kind (including documentation)

3. Letters from Community Leaders

(4) Budget (10 Points)

A. Budget Information (5 Points)

1. Instructions for filling out Standard Form 424A

B. Budget Justification Narrative (5 Points)

(5) Personnel

A. Biographical Sketches (2 Points)

B. Position Descriptions (3 Points)

(6) Evaluation Plan and Dissemination Strategies

A. Strategy for Measuring Progress and Results (8 Points)

1. Measuring and Utilizing Progress and Results.

B. Strategies for Disseminating Information About the Project (2 Points)

1. Identify strategies to publicize your project to the community.

2. Identify strategies to educate appropriate State and national organizations about your project.

3. Potential of Project to be Replicated in Other Communities

(7) Sustainability Plan

Strategies for Continuing the Program after Grant Support Ends

Note to current and former Rural Health Outreach Grantees: Current and former Rural Health Outreach Grantees may not apply for FY 2002 funds regardless of the type of proposed project or services to be delivered.

Rural Health Network Development Grants

These grants will support the development of integrated health care networks in rural areas or regions of the country as mechanisms for strengthening rural health care delivery systems. The grants will support network activities that demonstrate intent to move from shared and collaborative activities to integration of functions across network members. Networks may be vertically integrated, meaning they consist of different types of providers (e.g., hospital, health department, rural health clinic, community health center) or horizontally integrated networks meaning they are composed of only one type of provider (e.g., hospitals only). These integrated networks entail more formal relationships among the members than the networks envisioned for the Rural Outreach Grants. Also, the activities supported by these grants do not involve the actual delivery of services. Instead, it is expected that these activities will be aimed at moving the networks from sharing and collaborating to integrating functions across members. This integration of functions decreases fragmentation of service delivery across members and achieves certain efficiencies and economies of scale among them. Together, these outcomes help strengthen the network members and the rural health care system as a whole.

Like the outreach networks, rural health networks supported under these grants must be composed of three or more health care providers or other entities that provide or support the delivery of health care services. At least three of the network members must be separately owned. While social service providers may be part of a network, the grants will not support networks for the exclusive provision of social services. The members of a network must have a strong existing commitment to the network's goals and objectives and some history of prior collaboration and accomplishment before applying for the grant. Unlike the Rural Outreach Grants, the program will not support projects where the members have never collaborated in the past.

Although applicants for the program must be nonprofit or public entities, profit-making organizations may be members of a network. The network must address how its work benefits the local community served by the network members.

Review Considerations

Applications for the Rural Network Development Grant Program will be evaluated on the basis of the following criteria:

Criterion and Maximum Points

(1) Statement of Need and Appropriateness of Funding (15 Points)

A. The applicant demonstrates the need for Federal funding to support network activities by describing the environment in which the network has developed and the appropriateness of applying for Federal funding at this point. The applicant utilizes appropriate data sources in their analysis of the environment in which the network is functioning.

B. The applicant identifies the network members and explains why these are the appropriate collaborators and why other key groups are not included.

C. The applicant describes the value of the network to its members and how the network will provide value to the community.

(2) Evidence of Prior Collaborative History and Readiness for Integration Funding (25 Points)

A. The applicant describes prior collaborative history and accomplishments among a majority of network members.

B. The applicant provides a Memorandum of Agreement, bylaws, letter of incorporation etc. that demonstrates commitment on the part of all network members.

C. The applicant describes the level of commitment of network members including allocation of time, personnel, cash, and other in-kind contributions.

D. The applicant provides a map that shows the location of network members, the geographic area that will be served by the network and any other information that will help reviewers visualize and understand the scope of the proposed project. The applicant includes an organizational chart for the network showing each member of the network and the relationships between members. The applicant fills out and includes the Management Review Form provided in the application packet.

E. The applicant has an interim network leader in place and describes any known candidates for the permanent network leader position. The applicant provides a position description for the network leader job that outlines desirable skills and qualities. Position descriptions are provided for other key staff positions to be filled. Short biographical sketches that suggest the qualifications necessary to perform assigned work are provided for already hired key network staff.

F. The applicant describes a governance structure for the network that has effective, independent governing bodies and leadership. Providers of care and lay consumers of care are represented on the Board.

(3) Statement of Project and Budget (35 Points)

A. The applicant describes specific goals, objectives, activities, and expected outputs and outcomes that align with the intent of the Network Development Grant Program.

B. The applicant provides a matrix that carefully integrates goals, objectives, activities, output and outcome measures, and anticipated outputs and outcomes. The matrix outlines the individual responsible for carrying out each activity and includes a timeline for all three years of the project.

C. The applicant provides an accompanying narrative that describes the overall project, the marketing strategy, the management strategy, the financial management strategy, and addresses sustainability.

D. The applicant discusses how this application relates to other community and State-level grant applications and awards like the Community Access Program, the Robert Wood Johnson Foundation's Networking for Rural Health Program, and the Medicare Rural Hospital Flexibility Program.

E. The applicant provides required budget forms, a budget worksheet, and budget narrative that are appropriate and adequate to accomplish the goals, objectives, activities, and expected outputs and outcomes as described in the matrix and project narrative. The budget is reasonable and allocates Federal funds for allowable purposes. All network members contribute to each year of the budget and their joint contributions total at least 20 percent of the budget for each grant year.

(4) Evaluation (10 points)

A. The applicant proposes appropriate output and outcome measures for the goals, objectives, and activities described in the project matrix and narrative.

B. The applicant explains any assumptions made in developing the project matrix and outlines anticipated outputs and outcomes.

C. The applicant describes the process by which data for these measures will be collected and analyzed.

D. The applicant describes a continuous self-evaluation plan that will measure, monitor, and improve the network's execution to ensure progress toward identified goals and objectives.

E. The applicant describes an approach for evaluating the network's progress against its proposed outputs and outcomes following the three-year grant period.

(5) Sustainability (15 Points)

A. The authorizing language for this program requires that grants awarded shall be used “for the * * * development of integrated, self-sustaining health care networks.” In response, the applicant includes a plan for sustainability in the business plan provided under the “Statement of Project and Budget” Section.

B. The applicant's sustainability plan includes a discussion of methods for future income generation like member dues, maximizing reimbursement opportunities, recruiting new members, producing and marketing new products to members and others, and pursuing further grant opportunities.

Note to current and former Rural Health Network Development Grantees: Other than current or former one-year Network Development Grantees, current and former grantees may not reapply for grant funds. Current and former one-year grantees may apply for up to two additional years of funding.

Eligibility Requirements

The primary grant recipient, which is an organization that is or represents a network of three or more separately owned organizations, must be a public or nonprofit private entity that meets one of the three requirements stated below.

(1) The applicant organization must be located in a rural area or in a rural zip code of an urban county (list included in the application materials) and all services must be provided in a rural county. If the applicant is owned by or affiliated with an urban entity or health system the rural component may still apply as long as the rural entity can directly receive and administer the grant funds in the rural area. The rural entity must be in complete control of the planning, program management and financial management of the project. The urban parent organization must assure the Federal Office of Rural Health Policy in writing that, for this project, they will exert no control over or demand collaboration with the rural entity. The urban parent may, at the request of the rural entity, assist with direct service delivery or provide health care personnel who would not otherwise be available. Other network members may be urban entities.

(2) The applicant organization exists exclusively to provide services to migrant and seasonal farmworkers in rural areas and is supported under Section 330(g) of the Public Health Service Act. These organizations are eligible regardless of the urban or rural location of the administrative headquarters.

(3) The applicant is a Native American Tribal or quasi-Tribal entity for services delivered on reservation or Federally recognized Tribal lands.

Note To Former Applicants: The list of rural areas by State and county has been updated and is included in the application packet.

In addition to the above criteria, applicants must be capable of receiving the grant funds directly and must have the capability to manage the project. Project Management means that applicants must be able to exercise administrative and program direction over the grant project; must be responsible for hiring and managing the project staff; must have the administrative and accounting capabilities to manage the grant funds; and must have some permanent staff at the time the application is submitted. Further, applicants must have an Employer Identification Number from the Internal Revenue Service and other proof of organizational viability that may be requested by the Grants Management Office.

Applicants from the 50 United States, the District of Columbia, the Commonwealth of Puerto Rico, the Commonwealth of the Northern Mariana Islands, the Territories of the Virgin Islands, Guam, American Samoa, the Compact of Free Association Jurisdiction of the Republic of the Marshall Islands, the Republic of Palau, and the Federated States of Micronesia are eligible to apply.

Applications that do not meet the requirements stated above will not be Reviewed.

Preference Points

Approved applications for both programs that are awarded a funding preference will be placed in a more competitive position in ranking all applications that fall within the funding range. The funding range is the threshold score that determines the cutoff point for funding in a given fiscal year determined by available funds. Applications that do not address funding preferences will be given full and equitable consideration during the review process but will not be funded until all the applications that do receive the preference and fall within the funding line are funded.

To receive a preference, applicants must request a preference and identify the type of preference they are eligible for in the application. Approved applications that fall within the funding range and that are awarded a funding preference will be considered for funding before applications with no funding preference requested or identified.

As provided in the law, a preference will be awarded to any qualified applicant that demonstrates substantial inclusion of any one of the following in the proposed project:

(1) A majority of the healthcare providers serving in the area or region to be served by the network. The applicant must document the number of health care providers in the service area or region and the percentage of those providers that will be involved in the project. Data or documents to authenticate the claim must be included in the application;

(2) Any federally qualified health centers, rural health clinics, and local public health departments serving in the area or region. (The applicant must demonstrate the involvement of one or more of these health care facilities operating in the area or region to be served by the project. The involvement must be more than a referral relationship. The entity must be a full and active member of the network, and the letter of commitment must demonstrate the organizations' roles, responsibilities, and contribution of resources to the project.);

(3) Outpatient mental health providers serving in the area or region. (This guideline mirrors the previous guideline and the applicant must demonstrate the same level of participation for the mental health providers serving in the area or region.); or

(4) Appropriate social service providers, such as agencies on aging, school systems, and providers under the women, infants, and children program, to improve access to and coordination of health care services. This guideline also mirrors the previous guideline. As above, the applicant must demonstrate the same level of participation for the social service providers and related health agencies. These organizations must be intimately connected to the purpose of the grant program. The applicant must demonstrate how the inclusion of any of these entities will improve access to and coordination of health care services.)

Geographic Considerations

The HRSA hopes to achieve a geographic balance in making new awards under this announcement. Therefore, HRSA will consider geographic coverage when deciding which approved applications to fund.

Other Information

Applicants for both types of grants must demonstrate that at least 50 percent of the funds awarded will be spent in rural areas or for the benefit of rural communities. Grant funds may not be used for purchase, construction or renovation of real property. The grants will not support projects that are solely for the purchase of equipment or vehicles.

Applicants should demonstrate participation in the cost of grant supported projects. Cost participation may be in cash or in-kind. In-kind contributions might include donated staff time, donated space or equipment, donated vehicles, or other non-cash resources.

Applicants are advised that the entire application may not exceed 70 pages in length including the project and budget narratives, face page, all forms, appendices, attachments and letters of support. Each page of the application must be numbered consecutively. All applications must be computer generated or typewritten in print measuring at least 12 characters (in scalable or regular font) per inch and legible. Margins must be no less than 1 inch on the top and 1/2 inch on the bottom and left and right sides.

In order to allow the Office of Rural Health Policy to plan for the objective review process, applicants are encouraged to notify the Office in writing of their intent to apply and the program they are applying for. This notification serves to inform the Office of anticipated numbers of applications, which may be submitted. The address is Lilly Smetana, Office of Rural Health Policy, Health Resources and Services Administration, Parklawn Building, Room 9A-55, Rockville, Md., 20857, or Fax# 301/443-2803. If notification is offered, it should be received no later that September 21, 2001.

Technical Assistance Workshops

Four (4) Technical Assistance sessions for prospective applicants for the Rural Health Outreach and Rural Health Network Development programs will be held in late July and early August.

The sessions will be held as follows:

July 23, 2001—Minneapolis, MN

July 25, 2001—Las Vegas, NV

July 31, 2001—Jackson, MS

August 2, 2001—Pittsburgh, PA

Two technical assistance conference calls will also be held in August. Verification for the dates and places of the Technical Assistance workshops and calls will appear in the application documents and on our web site— www.ruralhealth.hrsa.gov.

Smoke-Free Workplaces

The PHS strongly encourages all grant recipients to provide a smoke-free workplace and promote the non-use of all tobacco products. In addition, Public Law 103-227, the Pro-Children Act of 1994, prohibits smoking in certain facilities (or in some cases, any portion of a facility) in which regular or routine education, library, day care, health care or early childhood development services are provided to children.

Public Health System Impact Statement

This program is subject to the Public Health System Reporting Requirements. The Office of Management and Budget—# 0937-0195, has approved reporting requirements. Under these requirements, the community-based non-governmental applicant must prepare and submit a Public Health System Impact Statement (PHSIS). The PHSIS is intended to provide information to State and local health officials to keep them apprised of proposed health services grant applications submitted by community-based organizations within their jurisdictions.

Community-based non-governmental applicants are required to submit the following information to the head of the appropriate State and local health agencies in the area(s) to be impacted no later than the Federal application receipt due date:

a. A copy of the face page of the application (SF 424)

b. An abstract of the project not to exceed one page, which provides:

(1) A description of the population to be served

(2) A summary of the services to be provided

(3) A description of the coordination planned with the appropriate State or local health agencies.

Executive Order 12372

This grant program has been determined to be a program which is subject to the provisions of Executive Order 12372 concerning intergovernmental review of Federal programs by appropriate State and local officials as implemented by 45 CFR part 100. Executive Order 12372 allows States the option of setting up a system for reviewing applications from within their States for assistance under certain Federal programs. Applicants (other than federally-recognized Indian tribal governments) should contact their State Single Point of Contact (SPOC), a list of which will be included in the application kit, as early as possible to alert them to the prospective applications and receive any necessary instructions on the State process. For proposed projects serving more than one State, the applicant is advised to contact the SPOC of each affected State. All SPOC recommendations should be submitted to Lawrence R. Poole, Director, Office of Grants Management, Bureau of Primary Health Care, 4350 East West Highway, 11th Floor, Bethesda, Maryland 20814, (301) 594-4235. The due date for State process recommendations is 60 days after the application deadline of September 28, 2001 for competing applications for the Outreach Program and October 5, 2001 for the Network Program. The granting agency does not guarantee to “accommodate or explain” State process recommendations it receives after that date. (See Part 148 of the PHS Grants Administration Manual, Intergovernmental Review of PHS Programs under Executive Order 12372, and 45 CFR Part 100 for a description of the review process and requirements.

Paperwork Reduction Act

If the methods proposed for the project evaluation should fall under the purview of the Paperwork Reduction Act of 1995, OMB approval will be sought for proposed data collection activities.

State Offices of Rural Health

Applicants are required to notify their State Office of Rural Health (or other appropriate State entity) of their intent to apply for this grant program and to consult with such agency regarding the content of the application. The State Office can provide information and technical assistance. A list of State Offices of Rural Health is included with the application kit.

OMB Catalog of Federal Domestic Assistance Number is: 93.912 A for the Rural Health Outreach Program; 93.912 B for the Rural Health Network Development Program.
Dated: July 17, 2001.
Elizabeth M. Duke,
Acting Administrator.

[FR Doc. 01-18181 Filed 7-19-01; 8:45 am]

BILLING CODE 4165-15-U